ENVIRONMENTAL PROTECTION AGENCY

[FRL-7617-1]

Florida Petroleum Reprocessors Superfund Site Notice of Proposed De Minimis Settlement

AGENCY: Environmental Protection Agency.

ACTION: Notice of proposed de minimis settlement.

SUMMARY: Under Section 122(g)(4) of the Comprehensive Environmental Response, Compensation and Liability Act (CERCLA), the Environmental Protection Agency (EPA) has offered a de minimis settlement at the Florida Petroleum Reprocessors Superfund Site (Site). EPA will consider public comments on the proposed settlement until March 3, 2004. EPA may withdraw from or modify the proposed settlement should such comments disclose facts or considerations which indicate the proposed settlement is inappropriate, improper, or inadequate. Copies of the proposed settlement are available from:

Ms. Paula V. Batchelor, U.S. Environmental Protection Agency, Region IV, Superfund Enforcement & Information Management Branch, Waste Management Division, 61 Forsyth Street, SW., Atlanta, Georgia 30303, (404) 562-8887.

Written comments may be submitted to Paula V. Batchelor at the above address within 30 days of the date of publication.

Dated: January 21, 2004.
Rosalind H. Brown,
Chief, Superfund Enforcement & Information, Management Branch, Waste Management Division.

[FR Doc. 04-2066 Filed 1-30-04; 8:45 am]

BILLING CODE 6560-50-P